DEPARTMENT OF DEFENSE

Department of the Navy

Notice of Intent To Grant Exclusive Patent License; Electro-Optic Instruments, Inc.

AGENCY: Department of the Navy, DoD.

ACTION: Notice.

SUMMARY: The Department of the Navy hereby gives notice of its intent to grant to Electro-Optic Instruments, Inc., a revocable, nonassignable, exclusive license to practice in the fields of use of an array of four (4) or more fiber optic sensors for the detection of sub-sonic, sonic, and ultra-sonic pressure waves, said field to exclude any and all medical applications; and one or more fiber optic pressure sensors for use in catheters for pressure sensing for medical applications in the United States and certain foreign countries, the Government-owned inventions described in U.S. Patent No. 7,020,354: Intensity Modulated Fiber Optic Pressure Sensor, Navy Case No. 84,638.//U.S. Patent No. 7,149,374: Fiber Optic Pressure Sensor, Navy Case No. 84,557.//U.S. Patent Application No. 11/250,708: Intensity Modulated Fiber Optic Static Pressure Sensor System, Navy Case No. 97,279.//U.S. Patent Application No. 11/250,709: Multiplexed Fiber Optic Sensor System, Navy Case No. 97,488 and any continuations, divisionals or re-issues thereof.

DATES: Anyone wishing to object to the grant of this license must file written objections along with supporting evidence, if any, not later than November 28, 2007.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone: 202-767-3083. Due to U.S. Postal delays, please fax: 202-404-7920, e-mail: rita.manak@nrl.navy.mil or use courier delivery to expedite response.

(Authority: 35 U.S.C. 207, 37 CFR Part 404.)

Dated: November 5, 2007.
T. M. Cruz,
Lieutenant, Judge Advocate General's Corps, U.S. Navy, Federal Register Liaison Officer.

[FR Doc. E7-22097 Filed 11-9-07; 8:45 am]

BILLING CODE 3810-FF-P